DEPARTMENT OF AGRICULTURE

Animal and Plant Health Inspection Service

[Docket No. APHIS-2018-0077]

Addition of Bulgaria to the List of Regions Affected With Highly Pathogenic Avian Influenza

AGENCY: Animal and Plant Health Inspection Service, USDA.

ACTION: Notice.

SUMMARY: We are advising the public that we added Bulgaria to the list of regions that the Animal and Plant Health Inspection Service considers to be affected by highly pathogenic avian influenza (HPAI). This action follows our imposition of HPAI-related restrictions on avian commodities originating from or transiting Bulgaria as a result of the confirmation of HPAI in Bulgaria.

DATES: Bulgaria was added to a list of regions APHIS considers to be affected with HPAI on October 3, 2018.

FOR FURTHER INFORMATION CONTACT: Dr. Ingrid Kotowski, Regionalization Evaluation Services, Strategy and Policy, VS, APHIS, 920 Main Campus Drive, Suite 200, Raleigh, NC 27606; (919) 855-7732; email: Ingrid.Kotowski@usda.gov.

SUPPLEMENTARY INFORMATION: The regulations in 9 CFR part 94 (referred to below as the regulations) govern the importation of certain animals and animal products into the United States to prevent the introduction of various animal diseases, including Newcastle disease and highly pathogenic avian influenza (HPAI). The regulations prohibit or restrict the importation of live poultry, poultry meat, and other poultry products from regions where these diseases are considered to exist.

Section 94.6 of the regulations contains requirements governing the importation into the United States of carcasses, meat, parts or products of carcasses, and eggs (other than hatching eggs) of poultry, game birds, or other birds from regions of the world where HPAI exists or is reasonably believed to exist. HPAI is an extremely infectious and potentially fatal form of avian influenza in birds and poultry that, once established, can spread rapidly from flock to flock. A list of regions that the Animal and Plant Health Inspection Service (APHIS) considers affected with HPAI of any subtype is maintained on the APHIS website at https://www.aphis.usda.gov/aphis/ourfocus/animalhealth/animal-and-animal-product-import-information/animal-health-status-of-regions.

APHIS receives notice of HPAI outbreaks from veterinary officials of the exporting country, from the World Organization for Animal Health (OIE), or from other sources the Administrator determines to be reliable. On October 22, 2017, the veterinary authorities of Bulgaria reported to the OIE that HPAI occurrence in that country was confirmed on October 17, 2017. Subsequent to that report, and after confirming that the HPAI occurred in commercial birds or poultry, APHIS issued an import alert to place restrictions on the importation of poultry, commercial birds, other types of birds (research, performing), ratites, any avian hatching eggs, unprocessed avian products and byproducts, and certain fresh poultry products from Bulgaria, on October 25, 2017, to mitigate risk of HPAI introduction into the United States. Those restrictions went into effect on October 17, 2017, the reported date of confirmation of the HPAI occurrence in Bulgaria. On October 26, 2017, APHIS added Bulgaria to a list of regions under temporary restriction. With the publication of this notice, we are informing the public that we removed Bulgaria from the list of regions under temporary restriction and added Bulgaria to the list of regions APHIS considers affected with HPAI of any subtype on October 3, 2018.

Authority: 7 U.S.C. 1633, 7701-7772, 7781-7786, and 8301-8317; 21 U.S.C. 136 and 136a; 31 U.S.C. 9701; 7 CFR 2.22, 2.80, and 371.4.

Done in Washington, DC, this 1st day of July 2019.
Kevin Shea,
Administrator, Animal and Plant Health Inspection Service.

[FR Doc. 2019-14324 Filed 7-3-19; 8:45 am]

BILLING CODE 3410-34-P